DEPARTMENT OF HEALTH AND HUMAN SERVICES

National Institutes of Health

Center for Scientific Review; Amended Notice of Meeting

Notice is hereby given of a change in the meeting of the Center for Scientific Review Special Emphasis Panel, Radiation Therapeutics and Biology Member Conflict, March 3, 2022, 12:00 p.m. to 3:30 p.m., which was published in the Federal Register on January 27, 2022, 87 FR 4260, FR 2022-01548.

Meeting is being amended to change the Contact Person from Nicholas J. Donato to Careen Tang-Toth, Ph.D., Scientific Review Officer, Center for Scientific Review, National Institutes of Health, 6701 Rockledge Drive, Room 4040, MSC 7849, Bethesda, MD 20892, (301) 435-3504, careen.toth@nih.gov. The meeting dates, times, and meeting location remain the same. The meeting is closed to the public.

Dated: February 10, 2022.
David W. Freeman,
Program Analyst, Office of Federal Advisory Committee Policy.

[FR Doc. 2022-03251 Filed 2-15-22; 8:45 am]

BILLING CODE 4140-01-P